DEPARTMENT OF ENERGY

[OE Docket Nos. PP-423, PP-424 and PP-425]

Notice of Issuance of Presidential Permits

AGENCY: Office of Electricity Delivery and Energy Reliability, DOE.

ACTION: Notice of Issuance.

SUMMARY: On February 13, 2017, the Department of Energy (DOE) Office of Electricity Delivery and Energy Reliability issued Presidential permits PP-423, PP-424, and PP-425 to AEP Texas Inc., transferring the authorizations in PP-94, PP-210, and PP-317 to a new corporate entity.

FOR FURTHER INFORMATION CONTACT: Christopher Lawrence (Program Office) at 202-586-5260, or by email to Christopher.Lawrence@hq.doe.gov, or Katherine Konieczny (Program Attorney) at 202-586-0503.

SUPPLEMENTARY INFORMATION: AEP Texas Central Company (AEP TCC) and AEP Utilities, Inc. (AEP Utilities) filed joint applications to voluntarily transfer the facilities authorized by Presidential permit Nos. PP-94, PP-219, and PP-317 to AEP Texas Inc. on July 20, 2016. The applications requested that the Department of Energy (DOE) rescind the Presidential permits held by AEP TCC and simultaneously issue permits to AEP Texas Inc., the new name of AEP Utilities, covering the same international transmission facilities from the previous permits. DOE issued the new Presidential permits on February 13, 2017.

DOE deemed the rescission and reissuance of these permits to be primarily clerical in nature because the facilities at issue already exist and there will be no physical or operational changes to the facilities. The prior permit holder is a direct, wholly-owned subsidiary of the current entity that will own and operate the facilities after a corporate reorganization. There will be no change in ultimate control of the facilities; they will be owned and operated by a different entity in the same chain of ownership of the facilities.

Prior to issuing any new Presidential permit, however, DOE must obtain concurrence from the Departments of State and Defense pursuant to Executive Order 10485, as amended by Executive Order 12038. DOE obtained such concurrence from the Department of State and the Department of Defense on December 28, 2016 and January 18, 2017, respectively, for the issuances of PP-423, PP-424 and PP-425.

Issued in Washington, DC, on February 13, 2017.
Christopher A. Lawrence,
Electricity Policy Analyst, Office of Electricity Delivery and Energy Reliability.

[FR Doc. 2017-06480 Filed 3-31-17; 8:45 am]

BILLING CODE 6450-01-P